DEPARTMENT OF DEFENSE

Department of the Navy

Notice for Submission of Donation Application for the Destroyer ex-FORREST SHERMAN (DD 931)

AGENCY: Department of the Navy, DoD.

ACTION: Notice.

SUMMARY: The Department of the Navy hereby gives notice of the deadline of November 18, 2004, for submission of a donation application for the Destroyer ex-FORREST SHERMAN (DD 931) under the authority of 10 U.S.C. section 7306. Ex-FORREST SHERMAN (DD 931) is located at the NAVSEA Inactive Ships On-Site Maintenance Office, Philadelphia, PA. Eligible recipients include: (1) Any State, Commonwealth, or possession of the United States or any municipal corporation or political subdivision thereof; (2) the District of Columbia; or (3) any organization incorporated as a non-profit entity under section 501 of the Internal Revenue Code. The transfer of a vessel under this law shall be made at no cost to the United States. The donee will be required to maintain the vessel in a condition satisfactory to the Secretary of the Navy as a static museum/memorial. Prospective donees must submit a comprehensive application that addresses the significant financial, technical, environmental, and curatorial responsibilities associated with donated Navy vessels. Further application information can be found on the Navy Ship Donation Program Web site at http://www.navsea.navy.mil/ndp.

FOR FURTHER INFORMATION CONTACT: Commander, Program Executive Office Ships (PEO SHIPS), PMS333, Inactive Ship Program Office, Attn: Ms. Gloria Carvalho (PMS 333G), 1333 Isaac Hull Avenue SE., Stop 2701, Washington Navy Yard, DC 20376-2701, telephone (202) 781-0485.

Dated: June 14, 2004.
S.K. Melancon,
Paralegal Specialist, Office of the Judge Advocate General, Alternate Federal Register Liaison Officer.

[FR Doc. 04-13768 Filed 6-17-04; 8:45 am]

BILLING CODE 3810-FF-P